SECURITIES AND EXCHANGE COMMISSION

[Release No. 34—62161; File No. SR—ODD—2010—01]

Self-Regulatory Organizations; The Options Clearing Corporation; Order Granting Approval of Accelerated Delivery of Supplement to the Options Disclosure Document Reflecting Certain Changes to Disclosure Regarding Options on Conventional Index-Linked Securities and Amendment to the Options Disclosure Document Inside Front Cover

May 24, 2010.

Correction

In notice document 2010-12986 beginning on page 30451 in the issue of Tuesday, June 1, 2010, make the following correction:

On page 30451, in the first column, the docket number is corrected to read as set forth above.

[FR Doc. C1-2010-12986 Filed 7-1-10; 8:45 am]

BILLING CODE 1505-01-D